ENVIRONMENTAL PROTECTION AGENCY

40 CFR Part 52

[MI-87-1; FRL-8214-1]

Approval and Promulgation of Air Quality Implementation Plans; Michigan; Revised Format of 40 CFR Part 52 for Materials Being Incorporated by Reference

AGENCY: Environmental Protection Agency (EPA).

ACTION: Final rule; Notice of administrative change.

SUMMARY: EPA is revising the format of materials submitted by the state of Michigan that are incorporated by reference (IBR) into its State Implementation Plan (SIP). The regulations affected by this format change have all been previously submitted by Michigan and approved by EPA.

This format revision will primarily affect the “Identification of plan” section, as well as the format of the SIP materials that will be available for public inspection at the National Archives and Records Administration (NARA), the Air and Radiation Docket and Information Center located at EPA Headquarters in Washington, DC, and the EPA Region 5 Office. EPA is also adding a table in the “Identification of plan” section which summarizes the approval actions that EPA has taken on the non-regulatory and quasi-regulatory portions of the Michigan SIP. The sections pertaining to provisions promulgated by EPA or state-submitted materials not subject to IBR review remain unchanged.

DATES: Effective Date: This final rule is effective on September 6, 2006.

ADDRESSES: SIP materials which are incorporated by reference into 40 CFR part 52 are available for inspection at the following locations: Environmental Protection Agency, Region 5, 77 West Jackson Boulevard, Chicago, Illinois 60604; the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal_register/code_of_federal_regulations/ibr_locations.html.

FOR FURTHER INFORMATION CONTACT: Kathleen D'Agostino, Environmental Engineer, Criteria Pollutant Section, Air Programs Branch (AR-18J), Environmental Protection Agency, Region 5, 77 West Jackson Boulevard, Chicago, Illinois 60604, (312) 886-1767, dagostino.kathleen@epa.gov.

SUPPLEMENTARY INFORMATION: Throughout this document whenever “we,” “us,” or “our” is used, we mean EPA. This supplementary information section is arranged as follows:

Table of Contents

I. Background

A. Description of a SIP

B. How EPA Enforces SIPs

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What EPA Is Doing in This Action

III. Statutory and Executive Order Reviews

I. Background

A. Description of a SIP

Each state has a SIP containing the control measures and strategies used to attain and maintain the National Ambient Air Quality Standards (NAAQS). The SIP is extensive, containing elements covering a variety of subjects, such as air pollution control regulations, emission inventories, monitoring networks, attainment demonstrations, and enforcement mechanisms.

B. How EPA Enforces SIPs

Each state must formally adopt the control measures and strategies in the SIP after the public has had an opportunity to comment on them. They are then submitted to EPA as SIP revisions on which EPA must formally act.

Once these control measures and strategies are approved by EPA, after notice and comment rulemaking, they are incorporated into the federally approved SIP and are identified in Title 40 of the Code of Federal Regulations part 52 (Approval and Promulgation of Implementation Plans), (40 CFR part 52). The actual state regulations approved by EPA are not reproduced in their entirety in 40 CFR part 52, but are “incorporated by reference,” which means that EPA has approved a given state regulation with a specific effective date. This format allows both EPA and the public to know which measures are contained in a given SIP and ensures that the state is enforcing the regulations. It also allows EPA and the public to take enforcement action, should a state not enforce its SIP-approved regulations.

C. How the State and EPA Update the SIP

The SIP is a living document which can be revised as necessary to address the unique air pollution problems in the state. Therefore, EPA must, from time to time, take action on SIP revisions containing new and/or revised regulations as being part of the SIP. On May 22, 1997 (62 FR 27968), EPA revised the procedures for incorporating by reference federally approved SIPs, as a result of consultations between EPA and the Office of the Federal Register (OFR).

EPA began the process of developing: (1) A revised SIP document for each state that would be incorporated by reference under the provisions of title 1 CFR part 51; (2) a revised mechanism for announcing EPA approval of revisions to an applicable SIP and updating both the IBR document and the CFR; and (3) a revised format of the “Identification of plan” sections for each applicable subpart to reflect these revised IBR procedures. The description of the revised SIP document, IBR procedures, and “Identification of plan” format are discussed in further detail in the May 22, 1997, Federal Register document.

D. How EPA Compiles the SIP

The federally approved regulations, source-specific requirements, and nonregulatory provisions (entirely or portions of) submitted by each state agency have been organized by EPA into a “SIP compilation.” The SIP compilation contains the updated regulations, source-specific requirements, and nonregulatory provisions approved by EPA through previous rulemaking actions in the Federal Register. The compilation is contained in three-ring binders and will be updated, primarily on an annual basis. The nonregulatory provisions are available by contacting Kathleen D'Agostino at the Regional Office.

E. How EPA Organizes the SIP Compilation

Each compilation contains three parts. Part one contains the regulations, part two contains the source-specific requirements that have been approved as part of the SIP, and part three contains nonregulatory provisions that have been approved by EPA. Each part consists of a table of identifying information for each SIP-approved regulation, each SIP-approved source-specific requirement, and each nonregulatory SIP provision. In this action, EPA is publishing the tables summarizing the applicable SIP requirements for Michigan. The effective dates in the tables indicate the date of the most recent revision of each regulation. The EPA Regional Offices have the primary responsibility for updating the compilation and ensuring its accuracy.

F. Where You Can Find a Copy of the SIP Compilation

EPA's Region 5 Office developed and will maintain the compilation for Michigan. A copy of the full text of Michigan's regulatory and source-specific compilation will also be maintained at NARA and EPA's Air Docket and Information Center.

G. The Format of the New Identification of Plan Section

In order to better serve the public, EPA revised the organization of the “Identification of plan” section and included additional information to clarify the enforceable elements of the SIP.

The revised Identification of plan section contains five subsections: (a) Purpose and scope, (b) Incorporation by reference, (c) EPA approved regulations, (d) EPA approved source specific permits, and (e) EPA approved nonregulatory and quasi-regulatory provisions such as transportation control measures, statutory provisions, control strategies, monitoring networks, etc.

H. When a SIP Revision Becomes Federally Enforceable

All revisions to the applicable SIP become federally enforceable as of the effective date of the revisions to paragraphs (c), (d), or (e) of the applicable Identification of plan section found in each subpart of 40 CFR part 52.

I. The Historical Record of SIP Revision Approvals

To facilitate enforcement of previously approved SIP provisions and provide a smooth transition to the new SIP processing system, EPA retains the original Identification of plan section, previously appearing in the CFR as the first or second section of part 52 for each state subpart. After an initial two-year period, EPA will review its experience with the new system and enforceability of previously approved SIP measures and will decide whether or not to retain the Identification of plan appendices for some further period.

II. What EPA Is Doing in This Action

Today's rule constitutes a “house­keeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs.

Under section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of September 6, 2006. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Michigan SIP compilation had previously afforded interested parties the opportunity to file a petition for judicial review in the United States Court of Appeals for the appropriate circuit within 60 days of such rulemaking action. Thus, EPA sees no need in this action to reopen the 60-day period for filing such petitions for judicial review for these “Identification of plan” reorganization actions for Michigan.

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides, Volatile organic compounds.

Dated: August 17, 2006.
Norman Niedergang,
Acting Regional Administrator, Region 5.

Part 52 of chapter I, title 40, Code of Federal Regulations, is amended as follows:

PART 52—[AMENDED]

1. The authority for citation for part 52 continues to read as follows:

Authority: 42 U.S.C. 7401 et seq.

Subpart X—Michigan

§ 52.1170 [Redesignated as § 52.1190]

2. Section 52.1170 is redesignated as § 52.1190 and the section heading and paragraph (a) are revised to read as follows:

§ 52.1190 Original Identification of plan section.

(a) This section identifies the original “Air Implementation Plan for the State of Michigan” and all revisions submitted by Michigan that were federally approved prior to August 1, 2006.

* * * * *

3. A new § 52.1170 is added to read as follows:

§ 52.1170 Identification of plan.

(a) Purpose and scope. This section sets forth the applicable State Implementation Plan (SIP) for Michigan under section 110 of the Clean Air Act, 42 U.S.C. 7401, and 40 CFR part 51 to meet National Ambient Air Quality Standards.

(b) Incorporation by reference. (1) Material listed in paragraphs (c), (d), and (e) of this section with an EPA approval date prior to August 1, 2006, was approved for incorporation by reference by the Director of the Federal Register in accordance with 5 U.S.C. 552(a) and 1 CFR part 51. Material is incorporated as it exists on the date of the approval, and notice of any change in the material will be published in the Federal Register. Entries in paragraphs (c), (d), and (e) of this section with the EPA approval dates after August 1, 2006, will be incorporated by reference in the next update to the SIP compilation.

(2) EPA Region 5 certifies that the rules/regulations provided by the EPA in the SIP compilation at the addresses in paragraph (b)(3) of this section are an exact duplicate of the officially promulgated state rules/regulations which have been approved as part of the SIP as of August 1, 2006.

(3) Copies of the materials incorporated by reference may be inspected at the Environmental Protection Agency, Region 5, Air Programs Branch, 77 West Jackson Boulevard, Chicago, IL 60604; the EPA, Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal_register/code_of_federal_regulations/ibr_locations.html.

(c) EPA approved regulations.

EPA-Approved Michigan Regulations
Michigan citation | Title | State effective date | EPA approval date | Comments
Annual Reporting
R 336.202 | Annual reports | 11/11/86 | 3/8/94, 59 FR 10752
Part 1. General Provisions
R 336.1101 | Definitions; A | 4/27/93 | 9/7/94, 59 FR 46182 | Only: actual emissions, air-dried coating, air quality standard, allowable emissions, and alternate opacity.
|  | 2/22/85 | 6/11/92, 57 FR 24752
R 336.1102 | Definitions; B | 5/27/02 | 2/24/03, 68 FR 8550
R 336.1103 | Definitions; C | 4/27/93 | 9/7/94, 59 FR 46182 | Only: coating category, calendar day, class II hardboard paneling finish, coating line, coating of automobiles and light duty trucks, coating of fabric, coating of large appliances, coating of paper, coating of vinyl, component, component in field gas service, component in gaseous volatile organic compound service, component in heavy liquid service, component in light liquid service, component in liquid volatile organic compound service, condenser, conveyorized vapor degreaser, and creditable.
|  | 2/22/85 | 6/11/92, 57 FR 24752
R 336.1104 | Definitions; D | 5/27/02 | 2/24/03, 68 FR 8550
R 336.1105 | Definitions; E | 5/27/02 | 2/24/03, 68 FR 8550
R 336.1106 | Definitions; F | 2/22/85 | 6/11/92, 57 FR 24752
R 336.1107 | Definitions; G | 5/27/02 | 2/24/03, 68 FR 8550
R 336.1108 | Definitions; H | 5/27/02 | 2/24/03, 68 FR 8550
R 336.1109 | Definitions; I | 8/21/81 | 7/26/82, 47 FR 32116
R 336.1112 | Definitions; L | 1/18/80 | 5/6/80, 45 FR 29790
R 336.1113 | Definitions; M | 5/27/02 | 2/24/03, 68 FR 8550
R 336.1114 | Definitions; N | 8/21/81 | 7/26/82, 47 FR 32116
R 336.1115 | Definitions; O | 8/21/81 | 7/26/82, 47 FR 32116
R 336.1116 | Definitions; P | 4/27/93 | 9/7/94, 59 FR 46182 | Only: packaging rotogravure printing, printed interior panel, process unit turnaround, publication rotogravure printing, and pushside Removed: pneumatic rubber tire manufacturing.
|  | 2/22/85 | 6/11/92, 57 FR 24752 | All except pneumatic rubber tire manufacturing, which was removed 9/7/94.
R 336.1118 | Definitions; R | 5/27/02 | 2/24/03, 68 FR 8550
R 336.1119 | Definitions; S | 2/22/85 | 6/11/92, 57 FR 24752
R 336.1120 | Definitions; T | 5/27/02 | 2/24/03, 68 FR 8550
R 336.1121 | Definitions; U | 4/20/89 | 9/15/94, 59 FR 47254
R 336.1122 | Definitions; V | 3/13/03 | 2/9/04, 69 FR 5932
R 336.1123 | Definitions; W | 8/21/81 | 7/26/82, 47 FR 32116
R 336.1127 | Terms defined in the act | 1/18/80 | 5/6/80, 45 FR 29790
Part 2. Air Use Approval
R 336.1201 | Permits to install | 1/18/80 | 5/6/80, 45 FR 29790
R 336.1202 | Waivers of approval | 1/18/80 | 5/6/80, 45 FR 29790
R 336.1203 | Information required | 1/18/80 | 5/6/80, 45 FR 29790
R 336.1204 | Authority of agents | 1/18/80 | 5/6/80, 45 FR 29790
R 336.1206 | Processing of applications for other facilities | 1/18/80 | 5/6/80, 45 FR 29790
R 336.1207 | Denial of permits to install | 1/18/80 | 5/6/80, 45 FR 29790
R 336.1208 | Permits to operate | 1/18/80 | 5/6/80, 45 FR 29790
R 336.1220 | Construction of sources of volatile organic compounds in ozone nonattainment areas; conditions for approval | 8/21/81 | 1/27/82, 47 FR 3764
R 336.1221 | Construction of sources of particulate matter, sulfur dioxide, or carbon monoxide in or near nonattainment areas; conditions for approval | 7/17/80 | 1/12/82, 47 FR 1292
R 336.1240 | Required air quality models | 1/18/80 | 5/6/80, 45 FR 29790
R 336.1241 | Air quality modeling demonstration requirements | 1/18/80 | 5/6/80, 45 FR 29790
R 336.1280 | Permit system exemptions; cooling and ventilation equipment | 1/18/80 | 5/6/80, 45 FR 29790
R 336.1281 | Permit system exemptions; cleaning, washing and drying equipment | 1/18/80 | 5/6/80, 45 FR 29790
R 336.1282 | Permit system exemptions; cooling and ventilation equipment | 1/18/80 | 5/6/80, 45 FR 29790
R 336.1283 | Permit system exemptions; testing and inspection equipment | 7/17/80 | 8/28/81, 46 FR 43422
R 336.1284 | Permit system exemptions; containers | 1/18/80 | 5/6/80, 45 FR 29790
R 336.1285 | Permit system exemptions; miscellaneous | 1/18/80 | 5/6/80, 45 FR 29790
Part 3. Emission Limitations and Prohibitions—Particulate Matter
R 336.1301 | Standards for density of emissions | 3/19/02 | 6/1/06, 71 FR 31093
R 336.1303 | Grading visible emissions | 3/19/02 | 6/1/06, 71 FR 31093
R 336.1310 | Open burning | 2/3/99 | 6/28/02, 67 FR 43548
R 336.1330 | Electrostatic precipitation control systems | 3/19/02 | 6/1/06, 71 FR 31093
R 336.1331 | Emissions of particulate matter | 3/19/02 | 6/1/06, 71 FR 31093 | All except Table 31, section C.8.
|  | 1/18/80 | 5/22/81, 46 FR 27923 | Only Table 31 Section C.7, preheater equipment.
R 336.1349 | Coke oven compliance date | 2/22/85 | 6/11/92, 57 FR 24752
R 336.1350 | Emissions from larry-car charging of coke ovens | 2/22/85 | 6/11/92, 57 FR 24752
R 336.1351 | Charging hole emissions from coke ovens | 2/22/85 | 6/11/92, 57 FR 24752
R 336.1352 | Pushing operation fugitive emissions from coke ovens | 2/22/85 | 6/11/92, 57 FR 24752
R 336.1353 | Standpipe assembly emissions during coke cycle from coke ovens | 2/22/85 | 6/11/92, 57 FR 24752
R 336.1354 | Standpipe assembly emissions during decarbonization from coke ovens | 2/22/85 | 6/11/92, 57 FR 24752
R 336.1355 | Coke oven gas collector main emissions from slot-type coke ovens | 1/18/80 | 5/55/81, 46 FR 27923
R 336.1356 | Coke oven door emissions from coke ovens; doors that are 5 meters or shorter | 2/22/85 | 6/11/92, 57 FR 24752
R 336.1357 | Coke oven door emissions from coke oven doors; doors that are taller than 5 meters | 2/22/85 | 6/11/92, 57 FR 24752
R 336.1358 | Roof monitor visible emissions at steel manufacturing facilities from electric arc furnaces and blast furnaces | 4/30/98 | 6/1/06, 71 FR 31093
R 336.1359 | Visible emissions from scarfer operation stacks at steel manufacturing facilities | 2/22/85 | 6/11/92, 57 FR 24752
R 336.1360 | Visible emissions from coke oven push stacks | 2/22/85 | 6/11/92, 57 FR 24752
R 336.1361 | Visible emissions from blast furnace casthouse operations at steel manufacturing facilities | 4/30/98 | 6/1/06, 71 FR 31093
R 336.1362 | Visible emissions from electric arc furnace operations at steel manufacturing facilities | 4/30/98 | 6/1/06, 71 FR 31093
R 336.1363 | Visible emissions from argon-oxygen decarburization operations at steel manufacturing facilities | 4/30/98 | 6/1/06, 71 FR 31093
R 336.1364 | Visible emissions from basic oxygen furnace operations | 2/22/85 | 6/11/92, 57 FR 24752
R 336.1365 | Visible emissions from hot metal transfer operations at steel manufacturing facilities | 2/22/85 | 6/11/92, 57 FR 24752
R 336.1366 | Visible emissions from hot metal desulphurization operations at steel manufacturing facilities | 2/22/85 | 6/11/92, 57 FR 24752
R 336.1367 | Visible emissions from sintering operations | 2/22/85 | 6/11/92, 57 FR 24752
R 336.1370 | Collected air contaminants | 2/17/81 | 11/15/82, 47 FR 51398
R 336.1371 | Fugitive dust control programs other than areas listed in Table 36 | 3/19/02 | 6/1/06, 71 FR 31093
R 336.1372 | Fugitive dust control program; required activities; typical control methods | 3/19/02 | 6/1/06, 71 FR 31093
R 336.1374 | Particulate matter contingency measures: Areas listed in Table 37 | 3/19/02 | 6/1/06, 71 FR 31093
Part 4. Emission Limitations and Prohibitions—Sulfur-Bearing Compounds
R 336.1401 | Emissions of sulfur dioxide from power plants | 3/19/02 | 6/1/06, 71 FR 31093
R 336.1402 | Emission of sulfur dioxide from fuel-burning sources other than power plants | 1/18/80 | 5/6/80, 45 FR 29790
R 336.1403 | Oil- and natural gas-producing or transporting facilities and natural gas-processing facilities; emissions; operation | 3/19/02 | 6/1/06, 71 FR 31093
R 336.1404 | Emissions of sulfuric acid mist from sulfuric acid plants | 1/18/80 | 5/6/80, 45 FR 29790
Part 6. Emission Limitations and Prohibitions—Existing Sources of Volatile Organic Compound Emissions
R 336.1601 | Definitions | 3/19/02 | 6/1/06, 71 FR 31093
R 336.1602 | General provisions for existing sources of volatile organic compound emissions | 4/10/00 | 6/28/02, 67 FR 43548
R 336.1604 | Storage of organic compounds having a true vapor pressure of more than 1.5 psia, but less than 11 psia, in existing fixed roof stationary vessels of more than 40,000 gallon capacity | 3/19/02 | 6/1/06, 71 FR 31093
R 336.1605 | Storage of organic compounds having a true vapor pressure of 11 or more psia in existing stationary vessels of more than 40,000 gallon capacity | 3/19/02 | 6/1/06, 71 FR 31093
R 336.1606 | Loading gasoline into existing stationary vessels of more than 2,000 gallon capacity at dispensing facilities handling 250,000 gallons per year | 3/19/02 | 6/1/06, 71 FR 31093
R 336.1607 | Loading gasoline into existing stationary vessels of more than 2,000 capacity at loading facilities | 3/19/02 | 6/1/06, 71 FR 31093
R 336.1608 | Loading gasoline into existing delivery vessels at loading facilities handling less than 5,000,000 gallons per year | 3/19/02 | 6/1/06, 71 FR 31093
R 336.1609 | Loading existing delivery vessels with organic compounds having a true vapor pressure of more than 1.5 psia at existing loading facilities handling 5,000,000 or more gallons of such compounds per year | 4/20/89 | 9/15/94, 59 FR 47254
R 336.1610 | Existing coating lines; emission of volatile organic compounds from existing automobile, light-duty truck, and other product and material coating lines | 4/27/93 | 9/7/94, 59 FR 46182
R 336.1611 | Existing cold cleaners | 6/13/97 | 7/21/99, 64 FR 39034
R 336.1612 | Existing open top vapor degreasers | 6/13/97 | 7/21/99, 64 FR 39034
R 336.1613 | Existing conveyorized cold cleaners | 6/13/97 | 7/21/99, 64 FR 39034
R 336.1614 | Existing conveyorized vapor degreasers | 6/13/97 | 7/21/99, 64 FR 39034
R 336.1615 | Existing vacuum-producing system at petroleum refineries | 3/19/02 | 6/1/06, 71 FR 31093
R 336.1616 | Process unit turnarounds at petroleum refineries | 3/19/02 | 6/1/06, 71 FR 31093
R 336.1617 | Existing organic compound-water separators at petroleum refineries | 3/19/02 | 6/1/06, 71 FR 31093
R 336.1618 | Use of cutback paving asphalt | 3/19/02 | 6/1/06, 71 FR 31093
R 336.1619 | Perchloroethylene; emission from existing dry cleaning equipment; disposal | 3/19/02 | 6/1/06, 71 FR 31093
R 336.1620 | Emission of volatile organic compounds from the coating of flat wood paneling from existing coating lines | 4/27/93 | 9/7/94, 59 FR 46182
R 336.1621 | Emission of volatile organic compounds from the coating of metallic surfaces from existing coating lines | 4/27/93 | 9/7/94, 59 FR 46182
R 336.1622 | Emission of volatile organic compound from existing component of a petroleum refinery; refinery monitoring program | 3/19/02 | 6/1/06, 71 FR 31093
R 336.1623 | Storage of petroleum liquids having a true vapor pressure of more than 1.0 psia but less than 11.0 psia, in existing external floating roof stationary vessels of more than 40,000 gallon capacity | 3/19/02 | 6/1/06, 71 FR 31093
R 336.1624 | Emission of volatile organic compound from an existing graphic arts line | 11/18/93 | 9/7/94, 59 FR 46182
R 336.1625 | Emission of volatile organic compound from existing equipment utilized in the manufacturing of synthesized pharmaceutical products | 11/30/00 | 6/1/06, 71 FR 31093
R 336.1627 | Delivery vessels; vapor collection systems | 3/19/02 | 6/1/06, 71 FR 31093
R 336.1628 | Emission of volatile organic compounds from components of existing process equipment used in manufacturing synthetic organic chemicals and polymers | 3/19/02 | 6/1/06, 71 FR 31093
R 336.1629 | Emission of volatile organic compounds from components of existing process equipment used in processing natural gas; monitoring program | 3/19/02 | 6/1/06, 71 FR 31093
R 336.1630 | Emission of volatile organic compounds from existing paint manufacturing processes | 3/19/02 | 6/1/06, 71 FR 31093
R 336.1631 | Emission of volatile organic compounds from existing process equipment utilized in manufacture of polystyrene of other organic resins | 3/19/02 | 6/1/06, 71 FR 31093
R 336.1632 | Emission of volatile organic compounds form existing automobile, truck, and business machine plastic part coating lines | 4/27/93 | 9/7/94, 59 FR 46182
R 336.1651 | Standards for degreasers | 6/13/97 | 7/21/99, 64 FR 39034
Part 7. Emission Limitations and Prohibitions—New Sources of Volatile Organic Compound Emissions
R 336.1702 | General provisions for new sources of volatile organic compound emissions | 3/19/02 | 6/1/06, 71 FR 31093
R 336.1705 | Loading gasoline into delivery vessels at new loading facilities handling less than 5,000,000 gallons per year | 3/19/02 | 6/1/06, 71 FR 31093
R 336.1706 | Loading delivery vessels with organic compounds having a true vapor pressure of more than 1.5 psia at new loading facilities handling 5,000,000 or more gallons of such compounds per year | 6/13/97 | 7/21/99, 64 FR 39034
R 336.1707 | New cold cleaners | 6/13/97 | 7/21/99, 64 FR 39034
R 336.1708 | New open top vapor degreasers | 6/13/97 | 7/21/99, 64 FR 39034
R 336.1709 | New conveyorized cold cleaners | 6/13/97 | 7/21/99, 64 FR 39034
R 336.1710 | New conveyorized vapor degreasers | 6/13/97 | 7/21/99, 64 FR 39034
Part 8. Emission Limitations and Prohibitions—Oxides of Nitrogen
R 336.1802 | Applicability under oxides of nitrogen budget trading program | 5/20/04 | 12/23/04, 69 FR 76848
R 336.1803 | Definitions for oxides of nitrogen budget trading program | 12/4/02 | 12/23/04, 69 FR 76848
R 336.1804 | Retired unit exemption from oxides of nitrogen budget trading program | 5/20/04 | 12/23/04, 69 FR 76848
R 336.1805 | Standard requirements of oxides of nitrogen budget trading program | 12/4/02 | 12/23/04, 69 FR 76848
R 336.1806 | Computation of time under oxides of nitrogen budget trading program | 12/4/02 | 12/23/04, 69 FR 76848
R 336.1807 | Authorized account representative under oxides of nitrogen budget trading program | 12/4/02 | 12/23/04, 69 FR 76848
R 336.1808 | Permit requirements under oxides of nitrogen budget trading program | 12/4/02 | 12/23/04, 69 FR 76848
R 336.1809 | Compliance certification under oxides of nitrogen budget trading program | 12/4/02 | 12/23/04, 69 FR 76848
R 336.1810 | Allowance allocations under oxides of nitrogen budget trading program | 12/4/02 | 12/23/04, 69 FR 76848
R 336.1811 | New source set-aside under oxides of nitrogen budget trading program | 5/20/04 | 12/23/04, 69 FR 76848
R 336.1812 | Allowance tracking system and transfers under oxides of nitrogen budget trading program | 12/4/02 | 12/23/04, 69 FR 76848
R 336.1813 | Monitoring and reporting requirements under oxides of nitrogen budget trading program | 12/4/02 | 12/23/04, 69 FR 76848
R 336.1814 | Individual opt-ins under oxides of nitrogen budget trading program | 12/4/02 | 12/23/04, 69 FR 76848
R 336.1815 | Allowance banking under oxides of nitrogen budget trading program | 12/4/02 | 12/23/04, 69 FR 76848
R 336.1816 | Compliance supplement pool under oxides of nitrogen budget trading program | 12/4/02 | 12/23/04, 69 FR 76848
R 336.1817 | Emission limitations and restrictions for Portland cement kilns | 12/4/02 | 12/23/04, 69 FR 76848
Part 9. Emission Limitations and Prohibitions—Miscellaneous
R 339.1901 | Air contaminant or water vapor, when prohibited | 1/18/80 | 5/6/80, 45 FR 29790
R 339.1906 | Diluting and concealing emissions | 3/19/02 | 6/1/06, 71 FR 31093
R 339.1910 | Air-cleaning devices | 1/18/80 | 5/6/80, 45 FR 29790
R 339.1911 | Malfunction abatement plans | 3/19/02 | 6/1/06, 71 FR 31093
R 339.1912 | Abnormal conditions and breakdown of equipment | 1/18/80 | 5/6/80, 45 FR 29790
R 339.1915 | Enforcement discretion in instances of excess emission resulting from malfunction, start-up, or shutdown | 5/27/02 | 2/24/03, 68 FR 8550
R 339.1916 | Affirmative defense for excess emissions during start-up or shutdown | 5/27/02 | 2/24/03, 68 FR 8550
R 339.1930 | Emission of carbon monoxide from ferrous cupola operations | 3/19/02 | 6/1/06, 71 FR 31093
Part 10. Intermittent Testing and Sampling
R 336.2001 | Performance tests by owner | 3/19/02 | 6/1/06, 71 FR 31093, 6/1/06 71 FR 31093
R 336.2002 | Performance tests by commission | 3/19/02 | 6/1/06, 71 FR 31093
R 336.2003 | Performance test criteria | 3/19/02 | 6/1/06, 71 FR 31093
R 336.2004 | Appendix A; reference test methods; adoption of federal reference test methods | 3/19/02 | 6/1/06, 71 FR 31093
R 336.2005 | Reference test methods for delivery vessels | 3/19/02 | 6/1/06, 71 FR 31093
R 336.2006 | Reference test method serving as alternate version of federal reference test method 25 by incorporating Byron analysis | 4/27/93 | 9/7/94, 59 FR 46182
R 336.2007 | Alternate version of procedure L, referenced in R 336.2040(10) | 3/19/02 | 6/1/06, 71 FR 31093
R 336.2011 | Reference test method 5B | 4/29/05 | 6/1/06, 71 FR 31093
R 336.2012 | Reference test method 5C | 10/15/04 | 6/1/06, 71 FR 31093
R 336.2013 | Reference test method 5D | 3/19/02 | 6/1/06, 71 FR 31093
R 336.2014 | Reference test method 5E | 10/15/04 | 6/1/06, 71 FR 31093
R 336.2021 | Figures | 3/19/02 | 6/1/06, 71 FR 31093
R 336.2030 | Reference test method 9A | 2/22/85 | 6/11/92, 57 FR 24752
R 336.2031 | Reference test method 9B | 2/22/85 | 6/11/92, 57 FR 24752
R 336.2032 | Reference test method 9C | 2/22/85 | 6/11/92, 57 FR 24752
R 336.2033 | Test methods for coke oven quench towers | 2/22/85 | 6/11/92, 57 FR 24752
R 336.2040 | Method for determination of volatile organic compound emissions from coating lines and graphic arts lines | 3/19/02 | 6/1/06, 71 FR 31093 | All except sections (9) and (10).
R 336.2041 | Recording requirements for coating lines and graphic arts lines | 4/27/93 | 9/7/94, 59 FR 46182
Part 11. Continuous Emission Monitoring
R 336.2101 | Continuous emission monitoring, fossil fuel-fired steam generators | 3/19/02 | 6/1/06, 71 FR 31093
R 336.2102 | Continuous emission monitoring, sulfuric acid-producing facilities | 1/18/80 | 11/2/88, 53 FR 44189
R 336.2103 | Continuous emission monitoring, fluid bed catalytic cracking unit catalyst regenerators at petroleum refineries | 1/18/80 | 11/2/88, 53 FR 44189
R 336.2150 | Performance specifications for continuous emission monitoring systems | 3/19/02 | 6/1/06, 71 FR 31093
R 336.2151 | Calibration gases for continuous emission monitoring systems | 1/18/80 | 11/2/88, 53 FR 44189
R 336.2152 | Cycling time for continuous emission monitoring systems | 1/18/80 | 11/2/88, 53 FR 44189
R 336.2153 | Zero and drift for continuous emission monitoring systems | 1/18/80 | 11/2/88, 53 FR 44189
R 336.2154 | Instrument span for continuous emission monitoring systems | 1/18/80 | 11/2/88, 53 FR 44189
R 336.2155 | Monitor location for continuous emission monitoring systems | 3/19/02 | 6/1/06, 71 FR 31093
R 336.2159 | Alternative continuous emission monitoring systems | 3/19/02 | 6/1/06, 71 FR 31093
R 336.2170 | Monitoring data reporting and recordkeeping | 3/19/02 | 6/1/06, 71 FR 31093
R 336.2175 | Data reduction procedures for fossil fuel-fired steam generators | 11/15/04 | 6/1/06, 71 FR 31093
R 336.2176 | Data reduction procedures for sulfuric acid plants | 1/18/80 | 11/2/88, 53 FR 44189
R 336.2189 | Alternative data reporting or reduction procedures | 3/19/02 | 6/1/06, 71 FR 31093
R 336.2190 | Monitoring System Malfunctions | 3/19/02 | 6/1/06, 71 FR 31093
R 336.2199 | Exemptions from continuous emission monitoring requirements | 1/18/80 | 11/2/88, 53 FR 44189 | All except section (c).
Part 16. Organization, Operation and Procedures
R 336.2606 | Declaratory rulings requests | 1/18/80 | 11/2/88, 53 FR 44189
R 336.2607 | Consideration and disposition of declaratory rulings requests | 1/18/80 | 11/2/88, 53 FR 44189
Part 17. Hearings
R 336.2701 | Procedures from Administrative Procedures Act | 4/10/00 | 6/28/02, 67 FR 43548
R 336.2702 | Service of notices and orders; appearances | 4/10/00 | 6/28/02, 67 FR 43548
R 336.2704 | Hearing commissioner's hearings | 1/18/80 | 11/2/88, 53 FR 44189
R 336.2705 | Agency files and records, use in connection with hearings | 1/18/80 | 11/2/88, 53 FR 44189
R 336.2706 | Commission hearings after hearing commissioner hearings | 1/18/80 | 11/2/88, 53 FR 44189
Executive Orders
1991-31 | Commission of Natural Resources, Department of Natural Resources, Michigan Department of Natural Resources, Executive Reorganization | 1/7/92 | 11/6/97, 62 FR 59995 | Introductory and concluding words of issuance; Title I: General, Part A Sections 1, 2, 4 & 5 and Part B; Title III: Environmental Protection, Part A Sections 1 & 2 and Part D; Title IV: Miscellaneous, Parts A & B, Part C Sections 1, 2 & 4 and Part D.
1995-18 | Michigan Department of Environmental Quality, Michigan Department of Natural Resources, Executive Reorganization | 9/30/95 | 11/6/97, 62 FR 59995 | Introductory and concluding words of issuance; Paragraphs 1, 2, 3(a) & (g), 4, 7, 8, 9, 10, 11, 12, 13, 15, 16, 17, and 18.
State Statutes
Act 250 of 1965, as amended | Tax Exemption Act | 1972 | 5/31/72, 37 FR 10841
Act 348 of 1965, as amended | Air Pollution Act | 1972 | 5/31/72, 37 FR 10841
Act 348 of 1965, as amended | Air Pollution Act | 1986 | 2/17/88, 53 FR 4622 | Only section 7a.
Act 348 of 1965, as amended | Air Pollution Act | 1990 | 3/8/94, 59 FR 10752 | Only sections 5 and 14a.
Act 127 of 1970 | Michigan Environmental Protection Act | 7/27/70 | 5/31/72, 37 FR 10841
Act 283 of 1964, as amended | Weights and Measures Act | 8/28/64 | 5/5/97, 62 FR 24341 | Only chapter 290, sections 613 and 615.
Act 44 of 1984, as amended | Michigan Motor Fuels Quality Act | 11/13/93 | 5/5/97, 62 FR 24341 | Only chapter 290, sections 642, 643, 645, 646, 647, and 649.
Act 12 of 1993 | Small Business Clean Air Assistance Act | 4/1/93 | 6/3/94, 59 FR 28785
Act 451 of 1994, as amended | Natural Resources and Environmental Protection Act | 3/30/95 | 2/10/98, 63 FR 6650 | Only sections 324.5524 and 324.5525.
House Bill 4165 | Motor Vehicle Emissions Inspection and Maintenance Program Act | 11/13/93 | 2/21/96, 61 FR 31831
House Bill 4898 | An Act to amend section 3 of Act 44 of 1984 | 11/13/93 | 10/11/94, 59 FR 51379
House Bill 5016 | Motor Vehicle Emissions Testing Program Act | 11/13/93 | 3/7/95, 60 FR 12459
Senate Bill 726 | An Act to amend sections 2, 5, 6, 7, and 8 of Act 44 of 1984 | 11/13/93 | 9/7/94, 59 FR 46182
Local Regulations
City of Grand Rapids Ordinance 72-34 | City of Grand Rapids Air Pollution Control Regulations | 1972 | 5/31/72, 57 FR 10841 | Ordinance amends sections 9.35 and 9.36 of article 4, Chapter 151 Title IX of the Code of the City of Grand Rapids.
Muskegon County Air Pollution Control Rules | Muskegon County Air Pollution Control Rules and Regulations, as amended | 3/27/73 | 5/16/84, 49 FR 20650 | Only article 14, section J.
Wayne County Air Pollution Control Regulations | Wayne County Air Pollution Control Regulations | 3/20/69 | 5/16/80, 45 FR 29790
Wayne County variance | Minutes from 1981 board meeting | 9/18/81 | 5/16/80, 45 FR 29790
Wayne County Air Pollution Control Ordinance | Wayne County Air Pollution Control Ordinance | 11/18/85 | 5/13/93, 58 FR 28359 | Only: chapters 1, 2, 3, 5 (except for the portions of section 501 which incorporate by reference the following parts of the state rules: the quench tower limit in R 336.1331, Table 31, section C.8; the deletion of the limit in R 336.1331 for coke oven coal preheater equipment; and R 336.1355), 8 (except section 802), 9, 11, 12, 13, and appendices A and D.

(d) EPA approved state source-specific requirements.

EPA-Approved Michigan Source-Specific Provisions
Name of source | Order No. | State effective date | EPA approval date | Comments
Allied Signal, Inc., Detroit Tar Plant, Wayne County | 4-1993 | 10/12/94 | 1/17/95, 60 FR 3346
American Colloid Plant | Permit 341-79 | 12/18/79 | 9/15/83, 48 FR 41403
American Colloid Plant | Permit 375-79 | 11/23/79 | 9/15/83, 48 FR 41403
Asphalt Products Company, Plant 5A, Wayne County | 5-1993 | 10/12/94 | 1/17/95, 60 FR 3346
Clark Oil and Refining Corporation, Calhoun County | 6-1981 | 6/24/82 | 12/13/82, 47 FR 55678
Clawson Concrete Company, Plant #1, Wayne County | 6-1993 | 10/12/94 | 1/17/95, 60 FR 3346
Conoco, Inc., Berrien County | 17-1981 | 9/28/81 | 2/17/82, 47 FR 6828
Consumers Power Company, B. C. Cobb Plant, Muskegon County | 6-1979 | 12/10/79 | 5/1/81, 46 FR 24560
Consumers Power Company, J.H. Campbell Plant, Units 1 and 2, Ottawa County | 12-1984 | 10/1/84 | 1/12/87, 52 FR 1183
Continental Fibre Drum, Inc., Midland County | 14-1987 | 12/9/87 | 6/11/92, 57 FR 24752
Cummings-Moore Graphite Company, Wayne County | 7-1993 | 10/12/94 | 1/17/95, 60 FR 3346
CWC Castings Division of Textron, Muskegon County | 12-1979 | 2/15/80 | 5/16/84, 49 FR 20650
Delray Connecting Railroad Company, Wayne County | 8-1993 | 10/12/94 | 1/17/95, 60 FR 3346
Detroit Edison Company, Boulevard Heating Plant, Wayne County | 7-1981 | 4/28/81 | 5/4/82, 47 FR 19133
Detroit Edison Company, City of St. Clair, St. Clair County | 4-1978 | 11/14/78 | 8/25/80, 45 FR 56344
Detroit Edison Company, Monroe County | 9-1977 | 7/7/77 | 12/21/79, 44 FR 75635 (correction: 3/20/80, 45 FR 17997)
Detroit Edison Company, River Rouge Power Plant, Wayne County | 9-1993 | 10/12/94 | 1/17/95, 60 FR 3346
Detroit Edison Company, Sibley Quarry, Wayne County | 10-1993 | 10/12/94 | 1/17/95, 60 FR 3346
Detroit Water and Sewerage Department, Wastewater Treatment Plant, Wayne County | 11-1993 | 10/12/94 | 1/17/95, 60 FR 3346
Diamond Crystal Salt Company, St. Clair County | 13-1982 | 9/8/82 | 3/14/83, 48 FR 9256
Dow Chemical Company, Midland County | 12-1981 | 6/15/81 | 3/24/82, 47 FR 12625
Dow Chemical Company, West Side and South Side Power Plants, Midland County | 19-1981 | 7/21/81 | 3/24/82, 47 FR 12625 | Only sections A(3), B, C, D, and E.
Dundee Cement Company, Monroe County | 8-1979 | 10/17/79 | 8/11/80, 45 FR 53137
Dundee Cement Company, Monroe County | 16-1980 | 11/19/80 | 12/3/81, 46 FR 58673
Eagle Ottawa Leather Company, Ottawa County | 7-1994 | 7/13/94 | 10/23/95, 60 FR 54308
Edward C. Levy Company, Detroit Lime Company, Wayne County | 15-1993 | 10/12/94 | 1/17/95, 60 FR 3346
Edward C. Levy Company, Plant #1, Wayne County | 16-1993 | 10/12/94 | 1/17/95, 60 FR 3346
Edward C. Levy Company, Plant #3, Wayne County | 17-1993 | 10/12/94 | 1/17/95, 60 FR 3346
Edward C. Levy Company, Plant #4 and 5, Wayne County | 19-1993 | 10/12/94 | 1/17/95, 60 FR 3346
Edward C. Levy Company, Plant #6, Wayne County | 18-1993 | 10/12/94 | 1/17/95, 60 FR 3346
Edward C. Levy Company, Scrap Up-Grade Facility, Wayne County | 20-1993 | 10/12/94 | 1/17/95, 60 FR 3346
Enamalum Corporation, Oakland County | 6-1994 | 6/27/94 | 2/21/96, 61 FR 6545
Ferrous Processing and Trading Company, Wayne County | 12-1993 | 10/12/94 | 1/17/95, 60 FR 3346
Ford Motor Company, Rouge Industrial Complex, Wayne County | 13-1993 | 10/12/94 | 1/17/95, 60 FR 3346
Ford Motor Company, Utica Trim Plant, Macomb County | 39-1993 | 11/12/93 | 9/7/94, 59 FR 46182
Ford Motor Company, Vulcan Forge, Wayne County | 14-1993 | 10/12/94 | 1/17/95, 60 FR 3346
General Motors Corporation, Warehousing and Distribution Division, Genesee County | 18-1981 | 7/28/83 | 5/16/84, 49 FR 20649 | Original order effective 12/1/81, as altered effective 7/28/83.
General Motors Corporation, Buick Motor Division Complex, Flint, Genesee County | 10-1979 | 5/5/80 | 2/10/82, 47 FR 6013
General Motors Corporation, Buick Motor Division, Genesee County | 8-1982 | 4/2/84 | 8/22/88, 53 FR 31861 | Original order effective 7/12/82, as altered effective 4/2/82.
General Motors Corporation, Cadillac Motor Car Division, Wayne County | 12-1982 | 7/22/82 | 7/5/83, 48 FR 31022
General Motors Corporation, Central Foundry Division, Saginaw Malleable Iron Plant, Saginaw County | 8-1983 | 6/9/83 | 12/13/85, 50 FR 50907 | Supersedes paragraph 7.F of order 6-1980.
General Motors Corporation, Central Foundry Division, Saginaw Malleable Iron Plant, Saginaw County | 6-1980 | 7/30/82 | 8/15/83, 48 FR 36818 | Paragraph 7.F superseded by order 8-1983. Original order effective 6/3/80, as altered effective 7/30/82.
General Motors Corporation, Chevrolet Flint Truck Assembly, Genesee County | 10-1982 | 7/12/82 | 7/5/83, 48 FR 31022
General Motors Corporation, Chevrolet Motor Division, Saginaw Grey Iron Casting Plant and Nodular Iron Casting Plant, Saginaw County | 1-1980 | 4/16/80 | 2/10/82, 47 FR 6013
General Motors Corporation, Fisher Body Division, Fleetwood, Wayne County | 11-1982 | 7/22/82 | 7/5/83, 48 FR 31022
General Motors Corporation, Fisher Body Division, Flint No. 1, Genesee County | 9-1982 | 7/12/82 | 7/5/83, 48 FR 31022
General Motors Corporation, GM Assembly Division, Washtenaw County | 5-1983 | 5/5/83 | 12/13/84, 49 FR 5345
General Motors Corporation, Hydra-Matic Division, Washtenaw County | 3-1982 | 6/24/82 | 3/4/83, 48 FR 9256
General Motors Corporation, Oldsmobile Division, Ingham County | 4-1983 | 5/5/83 | 12/13/84, 49 FR 5345
Hayes-Albion Corporation Foundry, Calhoun County | 2-1980 | 2/2/82 | 48 FR 41403 | Original order effective 2/15/80, as altered effective 2/2/82.
J. H. Campbell Plant, Ottawa County | 5-1979 | 2/6/80 | 12/24/80, 45 FR 85004 (correction: 3/16/81 46 FR 16895) | Original order effective 6/25/79, as altered effective 2/6/80.
Keywell Corporation, Wayne County | 31-1993 | 10/12/94 | 1/17/95, 60 FR 3346
Lansing Board of Water and Light | 4-1979 | 5/23/79 | 12/17/80, 45 FR 82926 | All except sections 7 A, B, C1, D, E, F, and section 8.
Marathon Oil Company, Muskegon County | 16-1981 | 7/31/81 | 2/22/82, 47 FR 7661
Marblehead Lime Company, Brennan Avenue Plant, Wayne County | 21-1993 | 10/12/94 | 1/17/95, 60 FR 3346
Marblehead Lime Company, River Rouge Plant, Wayne County | 22-1993 | 10/12/94 | 1/17/95, 60 FR 3346
McLouth Steel Company, Trenton Plant, Wayne County | 23-1993 | 10/12/94 | 1/17/95, 60 FR 3346
Michigan Foundation Company, Cement Plant, Wayne County | 24-1993 | 10/12/94 | 1/17/95, 60 FR 3346
Michigan Foundation Company, Sibley Quarry, Wayne County | 25-1993 | 10/12/94 | 1/17/95.60 FR 3346
Monitor Sugar Company, Bay County | 21-1981 | 10/29/81 | 5/19/82, 47 FR 21534
Morton International, Inc., Morton Salt Division, Wayne County | 26-1993 | 10/12/94 | 1/17/95, 60 FR 3346
National Steel Corporation, Great Lakes Division, Wayne County | 27-1993 | 10/12/94 | 1/17/95, 60 FR 3346
National Steel Corporation, Transportation and Materials Handling Division, Wayne County | 28-1993 | 10/12/94 | 1/17/95, 60 FR 3346
New Haven Foundry, Inc., Macomb County | 12-1980 | 8/14/80 | 2/10/82, 47 FR 6013
Northern Michigan Electric Cooperative Advance Steam Plant, Charlevoix County | 16-1979 | 1/10/80 | 46 FR 34584
Packaging Corporation of America, Manistee County | 23-1984 | 7/8/85 | 5/4/87, 52 FR 16246
Peerless Metal Powders, Incorporated, Wayne County | 29-1993 | 10/12/94 | 1/17/95, 60 FR 3346
Rouge Steel Company, Wayne County | 30-1993 | 10/12/94 | 1/17/95, 60 FR 3346
S. D. Warren Company, Muskegon | 9-1979 | 10/31/99 | 1/27/81, 46 FR 8476
St. Marys Cement Company, Wayne County | 32-1993 | 10/12/94 | 1/17/95, 60 FR 3346
Traverse City Board of Light and Power, Grand Traverse County | 23-1981 | 1/4/82 | 5/19/82, 47 FR 21534
Union Camp Corporation, Monroe County | 14-1979 | 1/3/80 | 5/14/81, 46 FR 26641
United States Gypsum Company, Wayne County | 33-1993 | 10/12/94 | 1/17/95, 60 FR 3346
VCF Films, Inc., Livingston County | 3-1993 | 6/21/93 | 9/7/94, 59 FR 46182
Woodbridge Corporation, Washtenaw County | 40-1993 | 11/12/93 | 9/7/94, 59 FR 46182
Wyandotte Municipal Power Plant, Wayne County | 34-1993 | 10/12/94 | 1/17/95, 60 FR 3346

(e) EPA approved nonregulatory and quasi-regulatory provisions.

EPA-Approved Michigan Nonregulatory and Quasi-Regulatory Provisions
Name of nonregulatory SIP provision | Applicable geographic or nonattainment area | State submittal date | EPA approval date | Comments
Implementation plan for the control of suspended particulates, sulfur oxides, carbon monoxide, hydrocarbons, nitrogen oxides, and photochemical oxidants in the state of Michigan | Statewide | 2/3/72 | 5/31/72, 37 FR 10841 | Sections include: Air quality control regions, legal authority, air quality data, emission data, control strategy, control regulations, compliance plans and schedules, prevention of air pollution emergency episodes, air quality surveillance program, control of emission sources, organization and resources, and intergovernmental cooperation.
Reevaluation of control strategies | Berrien and Ingham Counties | 3/3/72 | 10/28/72, 37 FR 23085
Reasons and justifications | Statewide | 7/12/72 | 10/28/72, 37 FR 23085 | Concerning general requirements of control strategy for nitrogen dioxide, compliance schedules, and review of new sources and modifications.
Public availability of emissions data | Statewide | 7/24/72 | 10/28/72, 37 FR 23085
Compliance schedules | Alpena, Baraga, Charlevoix, Huron, Ionia, Marquette, Midland, Muskegon, Oakland, Otsego, and St. Clair Counties | 5/4/73, 9/19/73, 10/23/73, and 12/13/73 | 8/5/74, 39 FR 28155
Compliance schedules | Allegan, Eaton, Emmet, Genesee, Huron, Ingham, Macomb, Monroe, Ottawa, Saginaw, and St. Clair Counties | 2/16/73 and 5/4/73 | 9/10/74, 39 FR 32606
Air quality maintenance area identifications for particulate matter | Macomb, Oakland, Wayne and Monroe Counties | 6/27/74 and 10/18/74 | 6/2/75, 40 FR 23746
Carbon monoxide control strategy | Saginaw area | 4/25/79 | 5/6/80, 45 FR 29790
Ozone attainment demonstrations and transportation control plans | Flint, Lansing and Grand Rapids urban areas | 4/25/79, 7/25/79, 10/12/79, 10/26/79, 11/8/79, 12/26/79 | 6/2/80, 45 FR 37188
Transportation control plans | Detroit urban area | 4/25/79, 7/25/79, 10/12/79, 10/26/79, 11/8/79, 12/26/79 | 6/2/80, 45 FR 37188
Ozone control strategy for rural ozone nonattainment areas | Marquette, Muskegon, Gratiot, Midland, Saginaw, Bay, Tuscola, Huron, Sanilac, Ottawa, Ionia, Shiawassee, Lapeer, Allegan, Barry, Van Buren, Kalamazoo, Calhoun, Jackson, Berrien, Cass, Branch, Hillsdale, and Lenawee Counties | 4/25/79, 7/25/79, 10/12/79, 10/26/79, 11/8/79, 12/26/79 | 6/2/80, 45 FR 37188
Carbon monoxide and ozone demonstrations of attainment and I/M program | Detroit urban area | 4/25/79, 7/25/79, 10/12/79, 10/26/79, 11/8/79, 12/26/79, 3/20/80, 5/12/80, and 5/21/80 | 6/2/80, 45 FR 37192
Ambient air quality monitoring, data reporting, and surveillance provisions | Statewide | 12/19/79 | 3/4/81, 46 FR 15138
Transportation control plan | Niles | 4/25/79, 10/26/79, 11/8/79, 12/26/79, 8/4/80, and 8/8/80 | 4/17/81, 46 FR 22373
Provisions addressing sections 110(a)(2)(K), 126(a)(2), 127, and 128 of the Clean Air Act as amended in 1977 | Statewide | 4/25/79 and 10/12/79 | 6/5/81, 46 FR 30082 | Concerns permit fees, interstate pollution, public notification, and state boards.
Section 121, intergovernmental consultation | Statewide | 5/25/79 | 11/27/81, 46 FR 57893
Total suspended particulate studies | Detroit area | 3/7/80 and 4/21/81 | 2/18/82, 47 FR 7227
Lead plan | Statewide | 12/27/79 and 2/9/81 | 4/13/82, 47 FR 15792
Reduction in size of Detroit ozone area | Wayne, Oakland, Macomb, Livingston, Monroe, St. Clair, and Washtenaw Counties | 9/1/82 | 7/7/83, 48 FR 31199
Negative declarations | Wayne, Oakland and Macomb Counties | 10/10/83, 5/17/85, and 6/12/85 | 11/24/86, 51 FR 42221 | Includes large petroleum dry cleaners, high-density polyethylene, polypropylene, and polystyrene resin manufacturers, and synthetic organic chemical manufacturing industry—oxidation.
Information relating to order 8-1982: letter dated 9/6/84 from Michigan Department of Natural Resources to EPA | Genesee County | 9/6/84 | 8/22/88, 53 FR 31861
Information relating to order 14-1987: letter dated 12/17/87 from Michigan Department of Natural Resources to EPA | Midland County | 12/17/87 | 10/3/89, 54 FR 40657
Appendices A and D of Wayne County Air Pollution Control Ordinance | Wayne County | 10/10/86 | 5/13/93, 58 FR 28359 | Effective 11/18/85.
Information supporting emissions statement program | Statewide | 11/16/92, 10/25/93, and 2/7/94 | 3/8/94, 59 FR 10752
1990 base year emissions inventory | Grand Rapids and Muskegon areas | 1/5/93 | 7/26/94, 59 FR 37944
Section 182(f) NOX exemption | Detroit-Ann Arbor area | 11/12/93 | 8/10/94, 59 FR 40826
Negative declarations | Livingston, Macomb, Monroe, Oakland, St. Clair, Washtenaw, Wayne, Kent, Ottawa, and Muskegon Counties | 3/30/94 | 9/7/94, 59 FR 46182 | Includes: Large petroleum dry cleaners, SOCMI air oxidation processes, high-density polyethylene and polypropylene resin manufacturing and pneumatic rubber tire manufacturing.
I/M program | Grand Rapids and Muskegon areas | 11/12/93 and 7/19/94 | 10/11/94, 59 FR 51379 | Includes: document entitled “Motor Vehicle Emissions Inspection and Maintenance Program for Southeast Michigan, Grand Rapids MSA, and Muskegon MSA Moderate Nonattainment Areas,” RFP, and supplemental materials.
1990 base year emissions inventory and 1-hour ozone maintenance plan | Detroit-Ann Arbor area (Livingston, Macomb, Monroe, Oakland, St. Clair, Washtenaw, and Wayne Counties) | 11/12/93 | 3/7/95, 60 FR 12459
Section 182(f) NOX exemptions | Clinton, Ingham, Eaton, and Genesee Counties | 7/1/94 and 7/8/94 | 4/27/95, 60 FR 20644
Section 182(f) NOX exemptions | Kent, Ottawa, Muskegon, Allegan, Barry, Bay, Berrien, Branch, Calhoun, Cass, Clinton, Eaton, Gratiot, Genesee, Hillsdale, Ingham, Ionia, Jackson, Kalamazoo, Lenawee, Midland, Montcalm, St. Joseph, Saginaw, Shiawassee, and Van Buren Counties | 7/13/94 | 1/26/96, 61 FR 2428
1-hour ozone maintenance plan | Grand Rapids area | 3/9/95 | 6/21/96, 61 FR 31831
PM-10 maintenance plan | Wayne County | 7/24/95 | 8/5/96, 61 FR 40516
General conformity | Statewide | 11/29/94 | 12/18/96, 61 FR 66607
Transportation conformity | Statewide | 11/24/94 | 12/18/96, 61 FR 66609
7.8 psi Reid vapor pressure gasoline-supplemental materials | Wayne, Oakland, Macomb, Washtenaw, Livingston, St. Clair, and Monroe Counties | 5/16/96, 1/5/96, and 5/14/96 | 5/5/97, 62 FR 24341 | Includes: letter from Michigan Governor John Engler to Regional Administrator Valdas Adamkus, dated 1/5/96, letter from Michigan Director of Environmental Quality Russell Harding to Regional Administrator Valdas Adamkus, dated 5/14/96, and state report entitled “Evaluation of Air Quality Contingency Measures for Implementation in Southeast Michigan”.
Section 182(f) NOX exemption | Muskegon County | 11/22/95 | 9/26/97, 62 FR 50512
Carbon monoxide maintenance plan | Detroit area (portions of Wayne, Oakland, and Macomb Counties) | 3/18/99 | 6/30/99, 64 FR 35017
1-hour ozone maintenance plan | Muskegon County | 3/9/95 | 8/30/00, 65 FR 52651
1-hour ozone maintenance plan | Allegan County | 9/1/00 and 10/13/00 | 11/24/00, 65 FR 70490
1-hour ozone maintenance plan | Genesee, Bay Midland, and Saginaw Counties | 5/9/00 | 11/13/00, 65 FR 67629
1-hour ozone maintenance plan revision | Muskegon County | 3/22/01 | 8/6/01, 66 FR 40895 | Revision to motor vehicle emission budgets.

[FR Doc. E6-14708 Filed 9-5-06; 8:45 am]

BILLING CODE 6560-50-P